DEPARTMENT OF AGRICULTURE

Forest Service

National Urban and Community Forestry Advisory Council

AGENCY: Forest Service, USDA.

ACTION: Notice of meeting.

SUMMARY: The National Urban and Community Forestry Advisory Council will meet in Reno, Nevada, June 26-28, 2003. The purpose of the meeting is to discuss emerging issues in urban and community forestry and the 2004 Challenge Cost-Share grant program.

DATES: The meeting will be held June 26-28, 2003. A tour of local projects will be held June 26 from 9 a.m. to 4 p.m.

ADDRESSES: The meeting will be held at the Circus Circus Hotel, 500 North Sierra Street, Reno, Nevada. Individuals who wish to speak at the meeting or to propose agenda items must send their names and proposals to Suzanne M. del Villar, Executive Assistant, National Urban and Community Forestry Advisory Council, 2000 Ascot Parkway, Unit 3816, Vallejo, California 94591. Individuals may fax their names and proposed agenda items to (707) 642-9201.

FOR FURTHER INFORMATION CONTACT: Suzanne M. del Villar, Urban and Community Forestry Staff, (707) 642-9201.

SUPPLEMENTARY INFORMATION: The meeting is open to the public. Council discussion is limited to Forest Service staff and Council members; however, persons who wish to bring urban and community forestry matters to the attention of the Council may file written statements with the Council staff before or after the meeting. Public input sessions will be provided.

Dated: May 27, 2003.
Robin L. Thompson,
Acting Deputy Chief, State and Private Forestry.

[FR Doc. 03-13785 Filed 6-2-03; 8:45 am]

BILLING CODE 3410-11-P